COMMITTEE FOR THE IMPLEMENTATION OF TEXTILE AGREEMENTS

New Export Visa and Certification Stamps for Certain Cotton, Wool, Man-Made Fiber, Silk Blend and Other Vegetable Fiber Textiles and Textile Products Produced or Manufactured in Romania

March 14, 2001.

AGENCY: Committee for the Implementation of Textile Agreements (CITA).

ACTION: Issuing a directive to the Commissioner of Customs providing for the use of new export visa and certification stamps.

EFFECTIVE DATE: April 1, 2001.

FOR FURTHER INFORMATION CONTACT: Naomi Freeman, International Trade Specialist, Office of Textiles and Apparel, U.S. Department of Commerce, (202) 482-4212.

SUPPLEMENTARY INFORMATION:

Authority: Section 204 of the Agricultural Act of 1956, as amended (7 U.S.C. 1854); Executive Order 11651 of March 3, 1972, as amended.

Beginning on April 1, 2001, the Government of Romania will start issuing a new export visa stamp for shipments of textile products, produced or manufactured in Romania, and exported from Romania on or after April 1, 2001 and a new certification stamp for products exported under the Outward Processing Program (64 FR 69746, published on December 14, 1999). The new stamps reflect a name change from “Ministry of Commerce-Department of Foreign Trade” to “MINISTRY OF FOREIGN AFFAIRS-DEPARTMENT OF INTERNATIONAL TRADE AND ECONOMIC PROMOTION” for the visa stamp and “MINISTRY OF FOREIGN AFFAIRS” for the certification stamp but are otherwise unchanged. There will be a one-month grace period from April 1, 2001 through April 30, 2001, during which products exported from Romania may be accompanied by either the old or new stamps. Products exported from Romania on or after May 1, 2001 must be accompanied by the new export visa or certification stamp.

Facsimiles of the new visa and certification stamps are on file at the U.S. Department of Commerce, Office of Textiles and Apparel, 14th and Constitution Avenue, NW, Room 3104, Washington, DC.

See 64 FR 69744, published on December 14, 1999, as amended.

D. Michael Hutchinson,
Acting Chairman, Committee for the Implementation of Textile Agreements.

Committee for the Implementation of Textile Agreements

March 14, 2001.

Commissioner of Customs,

Department of the Treasury, Washington, DC 20229.

Dear Commissioner: This directive amends, but does not cancel, the directive issued to you on December 9, 1999, as amended, by the Chairman, Committee for the Implementation of Textile Agreements. That directive directed you to prohibit entry of certain cotton, wool, man-made fiber, silk blend and other vegetable fiber textiles and textile products, produced or manufactured in Romania for which the Government of Romania has not issued appropriate export visa and certification stamps.

Beginning on April 1, 2001, you are directed to amend further the directive dated December 9, 1999 to provide for the use of new export visa stamp and a new certification stamp for products exported under the Outward Processing Program (see directive dated December 8, 1999) issued by the Government of Romania to accompany shipments of cotton, wool, man-made fiber, silk blend and other vegetable fiber textiles and textile products, produced or manufactured in Romania and exported from Romania on or after April 1, 2001 and. The new stamps reflect a name change from “Ministry of Commerce-Department of Foreign Trade” to “MINISTRY OF FOREIGN AFFAIRS-DEPARTMENT OF INTERNATIONAL TRADE AND ECONOMIC PROMOTION” for the visa stamp and “MINISTRY OF FOREIGN AFFAIRS” for the certification stamp but are otherwise unchanged.

Textile products exported from Romania during the period April 1, 2001 through April 30, 2001 may be accompanied by either the old or new stamps. Products exported from Romania on or after May 1, 2001 must be accompanied by the new export visa or certification stamp.

Facsimiles of the new visa and certification stamps are enclosed with this letter.

Shipments entered or withdrawn from warehouse according to this directive which are not accompanied by the appropriate export visa or certification stamp shall be denied entry and a new visa or certification stamp must be obtained.

The Committee for the Implementation of Textile Agreements has determined that this action falls within the foreign affairs exception to the rulemaking provisions of 5 U.S.C. 553(a)(1).

Sincerely,
D. Michael Hutchinson,
Acting Chairman, Committee for the Implementation of Textile Agreements.

BILLING CODE 3510-DR-F

[FR Doc. 01-6834 Filed 3-19-01; 8:45 am]

BILLING CODE 3510-DR-C